DEPARTMENT OF HOMELAND SECURITY

U.S. Citizenship and Immigration Services

[CIS No. 2436-07; DHS Docket No. USCIS-2007-0062]

RIN 1615-ZA64

Extension of the Designation of Somalia for Temporary Protected Status; Automatic Extension of Employment Authorization Documentation for Somali Temporary Protected Status Beneficiaries

AGENCY: U.S. Citizenship and Immigration Services, Department of Homeland Security (DHS).

ACTION: Notice.

SUMMARY: This Notice announces that the designation of Somalia for temporary protected status (TPS) has been extended for 18 months through September 17, 2009, from its current expiration date of March 17, 2008. This Notice also sets forth procedures necessary for nationals of Somalia (or aliens having no nationality who last habitually resided in Somalia) with TPS to re-register and to apply for an extension of their employment authorization documents (EADs) for the additional 18-month period. Re-registration is limited to persons who have previously registered for TPS under the designation of Somalia and whose applications have been granted or remain pending. Certain nationals of Somalia (or aliens having no nationality who last habitually resided in Somalia) who have not previously applied for TPS may be eligible to apply under the late initial registration provisions.

Given the timeframes involved with processing TPS re-registration applications, the Department of Homeland Security (DHS) recognizes the possibility that re-registrants may not receive a new EAD until after their current EAD expires on March 17, 2008. Accordingly, this Notice automatically extends the validity of EADs issued under the TPS designation of Somalia for 6 months, through September 17, 2008 and explains how TPS beneficiaries and their employers may determine which EADs are automatically extended. DHS will issue new EADs with the September 17, 2009 expiration date to eligible TPS beneficiaries who timely re-register and apply for an EAD.

DATES: The extension of the TPS designation of Somalia is effective March 18, 2008 and will remain in effect through September 17, 2009. The 60-day re-registration period begins March 12, 2008 and will remain in effect until May 12, 2008. To facilitate processing of applications, applicants are strongly encouraged to file as soon as possible after the start of the 60-day re-registration period beginning on March 12, 2008.

FOR FURTHER INFORMATION CONTACT: Shelly Sweeney, Status and Family Branch, Office of Service Center Operations, U.S. Citizenship and Immigration Services, Department of Homeland Security, 20 Massachusetts Avenue, NW., 2nd Floor, Washington, DC 20529, telephone (202) 272-1533. This is not a toll-free call. Further information will also be available at local USCIS offices upon publication of this Notice and on the USCIS Web site at http://www.uscis.gov. Note: The phone number provided here is solely for questions regarding this Notice and the information contained herein. It is not for individual case status inquiries. Applicants seeking information about the status of their individual case can check Case Status Online available at the USCIS Web site listed above, or applicants may call the USCIS National Customer Service Center at 1-800-375-5283 (TTY 1-800-767-1833).

SUPPLEMENTARY INFORMATION:

Abbreviations and Terms Used in This Document

Act—Immigration and Nationality Act

ASC—USCIS Application Support Center

DHS—Department of Homeland Security

DOS—Department of State

EAD—Employment Authorization Document

Secretary—Secretary of Homeland Security

TPS—Temporary Protected Status

USCIS—U.S. Citizenship and Immigration Services

What Authority Does the Secretary of Homeland Security Have To Extend the Designation of Somalia for TPS?

Section 244(b)(1) of the Immigration and Nationality Act (Act), 8 U.S.C. 1254a(b)(1), authorizes the Secretary of Homeland Security (Secretary), after consultation with appropriate agencies of the Government, to designate a foreign State (or part thereof) for TPS. The Secretary may then grant TPS to eligible nationals of that foreign State (or aliens having no nationality who last habitually resided in that State). 8 U.S.C. 1254a(a)(1)(A).

At least 60 days before the expiration of the TPS designation, or any extension thereof, the Secretary, after consultations with appropriate agencies of the Government, must review the conditions in a foreign State designated for TPS to determine whether the conditions for the TPS designation continue to be met and, if so, the length of an extension of the TPS designation. 8 U.S.C. 1254a(b)(3)(A), (C). If the Secretary determines that the foreign State no longer meets the conditions for the TPS designation, he must terminate the designation. 8 U.S.C. 1254a(b)(3)(B).

Why Did the Secretary Decide To Extend the TPS Designation of Somalia?

On September 16, 1991, the Attorney General published a notice in the Federal Register, at 56 FR 46804, designating Somalia for TPS due to on-going armed conflict and extraordinary and temporary conditions within the country. Subsequent to that date, the Attorney General extended TPS for Somalia nine times, determining in each instance that the conditions warranting the designation continued to be met. 57 FR 32232 (July 21, 1992); 58 FR 48898 (Sept. 20, 1993); 59 FR 43359 (Aug. 23, 1994); 60 FR 39005 (July 31, 1995); 61 FR 39472 (July 29, 1996); 62 FR 41421 (Aug. 1, 1997); 63 FR 51602 (Sept. 28, 1998); 64 FR 49511 (Sept. 13, 1999); 65 FR 69789 (Nov. 20, 2000).

On September 4, 2001, the Attorney General re-designated TPS for Somalia by publishing a notice in the Federal Register at 66 FR 46288. Since that date, the Attorney General and the Secretary of Homeland Security have extended the TPS designation of Somalia five times based on determinations that the conditions warranting the designation continued to be met. 67 FR 48950 (July 26, 2002); 68 FR 43147 (July 21, 2003); 69 FR 47937 (Aug. 6, 2004); 70 FR 43895 (July 29, 2005); 71 FR 42653 (July 27, 2006). The most recent extension became effective on September 17, 2006, and is due to expire on March 17, 2008. See 71 FR 42658.

Over the past year, DHS and the Department of State (DOS) have continued to review conditions in Somalia. Based on this review, DHS has determined that an 18-month extension is warranted, because the armed conflict is ongoing, and the extraordinary and temporary conditions that prompted the September 2001 re-designation persist.

The situation in Somalia has continued to deteriorate since the last extension of TPS. It has been estimated that there are 3,000 combatants fighting against the Transitional Federal Government (TFG) in Mogadishu and 50,000 to 70,000 clan militia operating in Somalia. Between February and April 2007, approximately 1,000 individuals were killed, and 400,000 individuals were displaced by fighting. Over 60% of those killed were elderly, women, and children.

In April 2007, clashes erupted between Puntland and Somaliland, which had been previously considered relatively stable regions in Somalia. Furthermore, two events in May 2007 put humanitarian workers' safety into question: First, a non-governmental organization (NGO) convoy was attacked in Buloburti, and second, two CARE International staff members returning from Puntland were kidnapped. These two incidents provide additional evidence of the instability of conditions in Somalia at this time.

Between June and August 2007, an additional 50,000 individuals were displaced from Mogadishu. There has been an increase in the use of roadside bombs, vehicle-borne explosives, and suicide bombing by insurgent forces. Although a six-week national reconciliation conference was held in July and August 2007, the Union of Islamic Courts and leaders of the Hawiye clan (which is the dominant clan in Mogadishu) did not participate. As such, the conflict in Somalia is unlikely to end in the near future.

Based upon this review, the Secretary has determined, after consultation with the appropriate Government agencies, that the conditions that prompted the designation of Somalia for TPS continue to be met. See 8 U.S.C. 1254a(b)(3)(A). There is an ongoing armed conflict and extraordinary and temporary conditions in Somalia that prevent aliens who are nationals of Somalia (or aliens having no nationality who last habitually resided in Somalia) from returning in safety. The Secretary also finds that it is not contrary to the national interest of the United States to permit aliens who meet the eligibility requirements of TPS to remain in the United States temporarily. See 8 U.S.C. 1254a(b)(1)(C). On the basis of these findings and determinations, the Secretary concludes that the designation of Somalia for TPS should be extended for an additional 18-month period. See 8 U.S.C. 1254a(b)(3)(C). There are approximately 300 nationals of Somalia (or aliens having no nationality who last habitually resided in Somalia) who are eligible for TPS under this designation.

Notice of Extension of the TPS Designation of Somalia

By the authority vested in me as Secretary of Homeland Security under section 244 of the Act, 8 U.S.C. 1254a, I have determined, after consultation with the appropriate Government agencies, that the conditions that prompted re-designation of Somalia for temporary protected status (TPS) on September 4, 2001, continue to be met. See 8 U.S.C. 1254a(b)(3)(A). Accordingly, I am extending the TPS designation of Somalia for 18 months from March 18, 2008 through September 17, 2009.

To maintain TPS, a national of Somalia (or an alien having no nationality who last habitually resided in Somalia) who was granted TPS and who has not had TPS withdrawn must re-register for TPS during the 60-day re-registration period from March 12, 2008 until May 12, 2008. To re-register, aliens must follow the filing procedures set forth in this Notice. For instructions on this extension, please refer to the following attachments, which include filing and eligibility requirements for TPS and EADs. Information concerning the extension of the designation of Somalia for TPS also will be available at local USCIS offices upon publication of this Notice and on the USCIS Web site at http://www.uscis.gov.

Dated: February 25, 2008.
Michael Chertoff,
Secretary.

Temporary Protected Status Filing Requirements

Do I Need To Re-Register for TPS If I Currently Have Benefits Through the Designation of Somalia for TPS, and Would Like To Maintain Them?

Yes. If you already have received TPS benefits through the TPS designation of Somalia, your benefits will expire on March 17, 2008. All TPS beneficiaries must comply with the re-registration requirements described in this Notice in order to maintain TPS benefits through September 17, 2009. TPS benefits include temporary protection against removal from the United States and employment authorization during the TPS designation period. 8 U.S.C. 1254a(a)(1). Failure to re-register without good cause will result in the withdrawal of your temporary protected status and possibly your removal from the United States. 8 U.S.C. 1254a(c)(3)(C).

If I Am Currently Registered for TPS or Have a Pending Application for TPS, How Do I Re-Register To Renew My Benefits for the Duration of the Extension Period?

Please submit the proper forms and fees according to Table 1 below. All applicants are strongly encouraged to pay close and careful attention when filling out the required forms to help ensure that their dates of birth, alien registration numbers, spelling of their names, and other required information is correctly entered on the forms. Aliens who have previously registered for TPS, but whose applications remain pending, should follow these instructions if they wish to renew their TPS benefits. All TPS re-registration applications submitted without the required fees will be returned to the applicant. All fee waiver requests should be filed in accordance with 8 CFR 244.20. If you received an EAD during the most recent registration period, please submit a photocopy of the front and back of your EAD.

Table 1.—Application Forms and Application Fees
If | And | Then
You are re-registering for TPS | You are applying for an extension of your EAD valid through September 17, 2009 | You must complete and file the Form I-765, Application for Employment Authorization, with the fee of $340 or a fee waiver request. You must also submit Form I-821, Application for Temporary Protected Status, with no fee.
You are re-registering for TPS | You are NOT applying for renewal of your EAD | You must complete and file the Form I-765 with no fee and Form I-821 with no fee. Note: DO NOT check any box for the question “I am applying for” listed on Form I-765, as you are NOT requesting an EAD benefit.
You are applying for TPS as a late initial registrant and you are between the ages of 14 and 65 (inclusive) | You are applying for a TPS-related EAD | You must complete and file Form I-821 with the $50 fee or fee waiver request and Form I-765 with the fee of $340 or a fee waiver request.
You are applying for TPS as a late initial registrant and are under age 14 or over age 65 | You are applying for a TPS-related EAD | You must complete and file Form I-821 with the $50 fee or fee waiver request. You must also submit Form I-765 with no fee.
You are applying for TPS as a late initial registrant, regardless of age | You are NOT applying for an EAD | You must complete and file Form I-821 with the $50 fee or fee waiver request and Form I-765 with no fee.
Your previous TPS application is still pending | You are applying to renew your temporary treatment benefits (i.e., an EAD with category “C-19” on its face) | You must complete and file the Form I-765 with the fee of $340 or a fee waiver request. You must also submit Form I-821, Application for Temporary Protected Status, with no fee.

Certain applicants must also submit a Biometric Service Fee (See Table 2).

Table 2.—Biometric Service Fee
If | And | Then
You are 14 years of age or older | 1. You are re-registering for TPS, or | You must submit a Biometric Service fee of $80 or a fee waiver request.
2. You are applying for TPS under the late initial registration provisions, or
3. Your TPS application is still pending and you are applying to renew temporary treatment benefits (i.e., EAD with category “C-19” on its face)
You are younger than 14 years of age | You are applying for an EAD | You must submit a Biometric Service fee of $80 or a fee waiver request.
You are younger than 14 years of age | You are NOT applying for an EAD | You do NOT need to submit a Biometric Service fee.

What Edition of the Form I-821 Should I Submit?

Only the edition of Form I-821 dated November 5, 2004 or later will be accepted. The revision date can be found in the bottom right corner of the form. The proper form can be found on the Internet at http://www.uscis.gov or by calling the USCIS forms hotline at 1-800-870-3676.

Where Should I Submit my Application for TPS?

Mail your application for TPS to the following address:

U.S. Citizenship and Immigration Services,

Attn: TPS Somalia,

P.O. Box 8677,

Chicago, IL 60680-8677.

Or, for non-U.S. Postal Service deliveries, mail your application to:

U.S. Citizenship and Immigration Services,

Attn: TPS Somalia,

427 S. LaSalle-3rd Floor,

Chicago, IL 60605-1029.

How Will I Know If I Need to Submit Supporting Documentation With My Application Package?

See Table 4 below to determine if you need to submit supporting documentation.

Table 4.—Who Should Submit Supporting Documentation?
If | Then
One or more of the questions listed in Part 4, Question 2 of Form I-821 applies to you | You must submit an explanation, on a separate sheet(s) of paper, and/or additional documentation must be provided.
You were granted TPS by an Immigration Judge or the Board of Immigration Appeals | You must include evidence of the grant of TPS (such as an order from the Immigration Judge) with your application package.

Can I File My Application Electronically?

If you are filing for re-registration and do not need to submit supporting documentation with your application, you may file your application electronically. To file your application electronically, follow directions on the USCIS Web site at: http://www.uscis.gov.

What Is Late Initial Registration?

Some persons may be eligible for late initial registration under 8 CFR 244.2. In order to be eligible for late initial registration, an applicant must:

(1) Be a national of Somalia (or an alien who has no nationality and who last habitually resided in Somalia);

(2) Have continuously resided in the United States since September 4, 2001;

(3) Have been continuously physically present in the United States since September 4, 2001; and

(4) Be both admissible as an immigrant, except as provided under section 244(c)(2)(A) of the Immigration and Nationality Act (Act), and not ineligible under section 244(c)(2)(B) of the Act.

Additionally, the applicant must be able to demonstrate that, during the initial registration period (from September 4, 2001 to December 3, 2001), he or she:

(1) Was a nonimmigrant or had been granted voluntary departure status or any relief from removal;

(2) Had an application for change of status, adjustment of status, asylum, voluntary departure, or any relief from removal or change of status pending or subject to further review or appeal;

(3) Was a parolee or had a pending request for reparole; or

(4) Is the spouse or child of an alien currently eligible to be a TPS registrant.

An applicant for late initial registration must file an application for late registration no later than 60 days after the expiration or termination of the conditions described above. 8 CFR 244.2(g). All late initial registration applications for TPS, pursuant to the designation of Somalia, should be submitted to the appropriate address in Chicago, Illinois as defined in Table 3.

Are Certain Aliens Ineligible for TPS?

Yes. There are certain criminal and terrorism-related inadmissibility grounds that render an alien ineligible for TPS. See 8 U.S.C. 1254a(c)(2)(A)(iii). Further, aliens who have been convicted of any felony or two or more misdemeanors committed in the United States are ineligible for TPS under section 244(c)(2)(B)(i) of the Act, 8 U.S.C. 1254a(c)(2)(B)(i), as are aliens described in the bars to asylum in section 208(b)(2)(A) of the Act, 8 U.S.C. 1158(b)(2)(A). See 8 U.S.C. 1254a(c)(2)(B)(ii).

If I Currently Have TPS, Can I Lose my TPS Benefits?

An individual granted TPS will have his or her TPS withdrawn if the alien is not in fact eligible for TPS, if the alien fails to timely re-register for TPS without good cause, or if the alien fails to maintain continuous physical presence in the United States. See 8 U.S.C. 1254a(c)(3)(A)-(C).

Does TPS Lead to Lawful Permanent Residence?

No. TPS is a temporary benefit that does not lead to lawful permanent residence or confer any other immigration status. 8 U.S.C. 1254a, (f)(1), and (h). When a country's TPS designation is terminated, TPS beneficiaries will maintain the same immigration status that they held prior to TPS (unless that status has since expired or been terminated), or any other status they may have acquired while registered for TPS. Accordingly, if an alien held no lawful immigration status prior to being granted TPS and did not obtain any other status during the TPS period, he or she will revert to unlawful status upon the termination of the TPS designation. Once the Secretary determines that a TPS designation should be terminated, aliens who had TPS under that designation, and who do not hold any other lawful immigration status, are expected to plan for their departure from the United States.

May I Apply for Another Immigration Benefit While Registered for TPS?

Yes. Registration for TPS does not prevent you from applying for non-immigrant status, filing for adjustment of status based on an immigrant petition, or applying for any other immigration benefit or protection. 8 U.S.C. 1254a(a)(5). For the purposes of change of status and adjustment of status, an alien is considered to be in, and maintaining, lawful status as a nonimmigrant during the period in which the alien is granted TPS. See 8 U.S.C. 1254a(f)(4).

How Does an Application for TPS Affect my Application for Asylum or Other Immigration Benefits?

An application for TPS does not affect an application for asylum or any other immigration benefit. Denial of an application for asylum or any other immigration benefit does not affect an applicant's TPS eligibility, although the grounds for denying one form of relief may also be grounds for denying TPS. For example, a person who has been convicted of a particularly serious crime is not eligible for asylum or TPS. See 8 U.S.C. 1158(b)(2)(A)(ii) and 8 U.S.C. 1254a(c)(2)(B)(ii).

Does This Extension Allow Nationals of Somalia (Or Aliens Having no Nationality Who Last Habitually Resided in Somalia) Who Entered the United States After September 4, 2001, To File for TPS?

No. An extension of a TPS designation does not change the required dates of continuous residence and continuous physical presence in the United States. This extension does not expand TPS eligibility to those that are not eligible currently. To be eligible for benefits under this extension, nationals of Somalia (or aliens having no nationality who last habitually resided in Somalia) must have continuously resided and have been continuously physically present in the United States since September 4, 2001.

Employment Authorization Document Automatic Extension Guidelines

Who is Eligible To Receive an Automatic Extension of His or Her EAD From March 17, 2008 to September 17, 2008?

To receive an automatic extension of an EAD, an individual must be a national of Somalia (or an alien having no nationality who last habitually resided in Somalia) who has applied for and received an EAD under the designation of Somalia for TPS and who has not had TPS withdrawn or denied. This automatic extension is limited to EADs issued on Form I-766, Employment Authorization Document, bearing an expiration date of March 17, 2008. These EADs must also bear the notation “A-12” or “C-19” on the face of the card under “Category.”

If I Am Currently Registered Under the Designation of Somalia for TPS and Am Re-Registering for TPS, How Do I Receive an Extension of my EAD After the Automatic Six-Month Extension?

TPS re-registrants will receive a notice in the mail with instructions as to whether or not they will be required to appear at a USCIS Application Support Center (ASC) for biometrics collection. To increase efficiency and improve customer service, whenever possible USCIS will reuse previously-captured biometrics and conduct the security checks using those biometrics, such that you may not be required to appear at an ASC.

Regardless of whether you are required to appear at an ASC, you are required to pay the biometrics fee or submit a fee waiver request during this re-registration. The fee will cover the USCIS costs associated with the use of the collected biometrics for FBI and other background checks. In addition, the fee helps pay for the costs of electronic storage of an applicants' biometrics, maintenance of the systems and technology for storing and utilizing the fingerprints, and for paying costs associated with requesting the FBI's reports to USCIS, among other biometrics-related procedures. USCIS fees fund the cost of processing applications and petitions for immigration benefits and services, and USCIS' associated operating costs. See section 286(m) of the Act, 8 U.S.C. 1356(m) (allowing for full recovery of costs of providing adjudication and naturalization services); 8 CFR 103.7.

If you are required to report to an ASC, you must bring the following documents: (1) Your receipt notice for your re-registration application; (2) your ASC appointment notice; and (3) your current EAD. If no further action is required for your case, you will receive a new EAD by mail valid through September 17, 2009. If your case requires further resolution, USCIS will contact you in writing to explain what additional information, if any, is necessary to resolve your case. Once your case is resolved and if your application is approved, you will receive a new EAD in the mail with an expiration date of September 17, 2009.

May I Request an Interim EAD at my Local District Office?

No. USCIS will not issue interim EADs to TPS applicants and re-registrants at District Offices.

How may Employers Determine Whether an EAD Has Been Automatically Extended for Six Months Through September 17, 2008 and Is Therefore Acceptable for Completion of the Form I-9, Employment Eligibility Verification?

An EAD that has been automatically extended for six months by this Notice through September 17, 2008 will be a Form I-766 bearing the notation “A-12” or “C-19” on the face of the card under “Category,” and have an expiration date of March 17, 2008, on the face of the card. New EADs or extension stickers showing the September 17, 2008, expiration date of the six-month automatic extension will not be issued. Employers should not request proof of Somali citizenship.

Employers should accept an EAD as a valid “List A” document and not ask for additional Form I-9 documentation if presented with an EAD that has been extended pursuant to this Federal Register Notice, and the EAD reasonably appears on its face to be genuine and to relate to the employee. This extension does not affect the right of an applicant for employment or an employee to present any legally acceptable document as proof of identity and eligibility for employment.

Note to Employers

Employers are reminded that the laws requiring employment eligibility verification and prohibiting unfair immigration-related employment practices remain in full force. This Notice does not supersede or in any way limit applicable employment verification rules and policy guidance, including those setting forth re-verification requirements. For questions, employers may call the USCIS Customer Assistance Office at 1-800-357-2099. Also, employers may call the U.S. Department of Justice Office of Special Counsel for Immigration Related Unfair Employment Practices (OSC) Employer Hotline at 1-800-255-8155. Employees or applicants may call the OSC Employee Hotline at 1-800-255-7688 for information regarding the automatic extension. Additional information is available on the OSC Web site at http://www.usdoj.gov/crt/osc/index.html.

How May Employers Determine an Employee's Eligibility for Employment Once the Automatic Six-Month Extension Expires on September 17, 2008?

Eligible TPS aliens will possess an EAD with an expiration date of September 17, 2009. The EAD will be a Form I-766 bearing the notation “A-12” or “C-19” on the face of the card under “Category,” and should be accepted for the purposes of verifying identity and employment authorization.

What Documents May a Qualified Individual Show to His or Her Employer as Proof of Employment Authorization and Identity When Completing Form I-9?

During the first six months of this extension, qualified individuals who have received a six-month automatic extension of their EADs by virtue of this Federal Register Notice may present their TPS-based EAD to their employer, as described above, as proof of identity and employment authorization through September 17, 2008. To minimize confusion over this extension at the time of hire or re-verification, qualified individuals may also present a copy of this Federal Register Notice regarding the automatic extension of employment authorization documentation through September 17, 2008. After September 17, 2008, a qualified individual may present a new EAD valid through September 17, 2009.

In the alternative, any legally acceptable document or combination of documents as listed on the Form I-9 may be presented as proof of identity and employment eligibility.

[FR Doc. E8-4898 Filed 3-11-08; 8:45 am]

BILLING CODE 4410-10-P